POSTAL SERVICE

Privacy Act of 1974; System of Records

AGENCY: Postal Service®.

ACTION: Notice of modified systems of records.

SUMMARY: The United States Postal Service® (USPS) is proposing to revise one Customer Privacy Act System of Records (SOR). These modifications are being made to support an initiative that is intended to enhance the USPS shippers' customer experience and individual privacy protection when filing an online International inquiry. The USPS International Assistant (IA) initiative will improve the efficiency of the identity verification process by streamlining name and address verification as described below.

DATES: These revisions will become effective without further notice on April 7, 2023, unless in response to comments received on or before that date result in a contrary determination.

ADDRESSES: Comments may be submitted via email to the Privacy and Records Management Office, United States Postal Service Headquarters (uspsprivacyfedregnotice@usps.gov). To facilitate public inspection, arrangements to view copies of written comments received may be made upon request.

FOR FURTHER INFORMATION CONTACT: Janine Castorina, Chief Privacy and Records Management Officer, Privacy and Records Management Office, via (uspsprivacyfedregnotice@usps.gov or 202-268-2000).

SUPPLEMENTARY INFORMATION: This notice is in accordance with the Privacy Act requirement that agencies publish their systems of records in the Federal Register when there is a revision, change, or addition, or when the agency establishes a new system of records. The Postal Service has determined that Customer Privacy Act System of Records, USPS SOR 810.100, www.usps.com Registration, should be revised to support the USPS International Assistant (IA) initiative. The Postal Service continuously seeks to improve service and the customer experience and is therefore proposing to simplify the process for filing an international inquiry online by using the IA tool. The IA initiative is intended to improve the efficiency of the identity verification process by streamlining name and address verification when submitting International Inquiries on usps.com. The USPS International Assistant (IA) promotes individual privacy protection by leveraging usps.com Customer Registration account profile information to improve the identity verification of the individual submitting the international inquiry.

I. Background

International customer care involves a two-step process to submit an International inquiry for lost or damaged packages. Investigation of a package that a customer shipped from the United States (U.S.) to an International destination begins with an individual customer inquiry. Once the inquiry is filed and the USPS agent investigates the lost or damaged package request, the inquiry is determined to be either closed or to proceed as a Claim.

The IA online International inquiry tool initially facilitates the filing of an inquiry by using the package tracking number to pull product, service, scanning, and shipment data from internal USPS databases. The USPS requires this data for each export shipment to meet compliance regulations and to investigate the status of a customer's International inquiry. The individual that is filing the inquiry will be required to login to their usps.com Customer Registration account to proceed. IA then begins the process to verify that the customer filing the inquiry is the sender of the package, or if the individual filing the inquiry is the Sender's Representative.

Enhanced International Assistant (IA) Online Inquiry Process Description

For the Sender: If the sender's name and address on the package matches the name and address in the Customer Registration profile of the individual customer filing the international inquiry, the IA system will allow the customer to proceed with filing an inquiry. However, if the sender's name and/or address associated with the package is different than the name and/or address in the Customer Registration profile, the IA system will ask the customer to confirm the sender's name and/or address that appears on the shipment. If the sender's name on the package matches the name in the Customer Registration profile, and the sender can identify the sender's address on the package, the customer will be advised to update their address profile, if applicable, in Customer Registration on usps.com. If this customer does not accurately identify the sender's name and/or address on the package, then the customer will be asked to call the USPS Customer Care Center for further assistance.

For the Sender's Representative: If the sender's representative is filing the inquiry and has registered in Customer Registration on usps.com with a name and address that is different from the sender's, they will be asked to identify the sender's address on the package identified with the tracking number. If this customer does not accurately identify the sender's address on the package, then the customer will be asked to call the USPS Customer Care Center for further assistance.

The IA tool is a dynamic customer facing interactive solution that facilitates a complete and accurate inquiry for lost or damaged packages that were sent to International destinations. IA optimizes steps needed to submit an inquiry, while providing guidance to customers based on their responses for key information. The Postal Service is proposing to enhance the International Assistant (IA) international inquiry registration process on usps.com, by making it easier for the customer to secure authorization to file an inquiry by verifying their identity using their Customer Registration account profile name and address information.

II. Rationale for Changes to USPS Privacy Act Systems of Records

The enhanced IA online inquiry submission process requires the customer to sign-in to, or to create an account on www.usps.com, Customer Registration. The proposed process change will protect the privacy of the sender's personal information by verifying that the customer filing the inquiry is either the Sender or the Sender's Representative. This process fulfills the objective to protect the privacy of the sender's personal information by verifying the sender's identity and address, or by verifying the sender representative's authority to file the Inquiry. For example, the sender's representative cannot access the sender's personal address information based on the package tracking number alone. By leveraging the customer registration profile information of a logged-in customer, the IA can also prefill most of the information individual customers are required to enter when filing an inquiry. Therefore, the IA enhancement facilitates sender name and address verification, while streamlining the online international inquiry process.

The Postal Service has determined that Privacy Act System of Records, USPS SOR 810.100 www.usps.com Registration, should be revised to support a key component of the International Assistant (IA) Initiative, to verify the sender's name and address or the authority of the sender's representative to file the inquiry, by leveraging their respective Customer Registration account profile.

III. Description of the Modified System of Records

• Added new PURPOSE #16 for International Package inquiries using the International Assistant tool

• Added new CATEGORY OF RECORDS #8 for International Package inquiries using the International Assistant tool

• Added Retrieval by Tracking Number for International Package inquiries to Policies and Practices for Retrieval of Records

• Added Sender and Sender's representative for international package shipment inquiries to Record Source Categories

Pursuant to 5 U.S.C. 552a(e)(11), interested persons are invited to submit written data, views, or arguments on this proposal. A report of the proposed revisions has been sent to Congress and to the Office of Management and Budget for their evaluations. The Postal Service does not expect this amended system of records to have any adverse effect on individual privacy rights. USPS SOR 810.100 www.usps.com Registration is provided below in its entirety.

SYSTEM NAME AND NUMBER:

USPS 810.100, www.usps.com Registration.

SECURITY CLASSIFICATION:

None.

SYSTEM LOCATION:

Computer Operations Service Centers.

SYSTEM MANAGER(S):

Chief Customer and Marketing Officer and Executive Vice President, United States Postal Service, 475 L'Enfant Plaza SW, Washington, DC 20260-5005, (202) 268-7536.

AUTHORITY FOR MAINTENANCE OF THE SYSTEM:

39 U.S.C. 401, 403, and 404.

PURPOSE(S) OF THE SYSTEM:

1. To provide online registration with single sign-on services for customers.

2. To facilitate online registration, provide enrollment capability, and administer internet-based services or features.

3. To maintain current and up-to-date address information to assure accurate and reliable delivery and fulfillment of postal products, services, and other material.

4. To obtain accurate contact information in order to deliver requested products, services, and other material.

5. To authenticate customer logon information for usps.com.

6. To permit customer feedback in order to improve usps.com or USPS products and services.

7. To enhance understanding and fulfillment of customer needs.

8. To verify a customer's identity when the customer establishes or attempts to access his or her account.

9. To identify, prevent, and mitigate the effects of fraudulent transactions.

10. To enhance the customer experience by improving the security of Change of Address (COA) and Hold Mail processes.

11. To protect USPS customers from becoming potential victims of mail fraud and identity theft.

12. To identify and mitigate potential fraud in the COA and Hold Mail processes.

13. To verify a customer's identity when applying for COA and Hold Mail services.

14. To provide online registration for Informed Address platform service for customers.

15. To authenticate customer logon information for Informed Address platform services.

16. To verify the name and address of the sender or the authority of the sender's representative when submitting an online International inquiry for a lost or damaged package on usps.com, such as the use of the International Assistant tool.

CATEGORIES OF INDIVIDUALS COVERED BY THE SYSTEM:

Customers who register via the USPS website at usps.com.

CATEGORIES OF RECORDS IN THE SYSTEM:

1. Customer information: Name; customer ID(s); company name; job title and role; home, business, and billing address; phone number(s) and fax number; email(s); URL; text message number(s) and carrier; and Automated Clearing House (ACH) information.

2. Identity verification information: Question, answer, username, user ID, password, email address, text message address and carrier, and results of identity proofing validation.

3. Business specific information: Business type and location, business IDs, annual revenue, number of employees, industry, nonprofit rate status, mail owner, mail service provider, PC postage user, PC postage vendor, product usage information, annual and/or monthly shipping budget, payment method and information, planned use of product, age of website, and information submitted by, or collected from, business customers in connection with promotional marketing campaigns.

4. Customer preferences: Preferences to receive USPS marketing information, preferences to receive marketing information from USPS partners, preferred means of contact, preferred email language and format, preferred on-screen viewing language, product and/or service marketing preference.

5. Customer feedback: Method of referral to website.

6. Registration information: Date of registration.

7. Online user information: Internet Protocol (IP) address, domain name, operating system versions, browser version, date and time of connection, Media Access Control (MAC) address, device identifier, information about the software acting on behalf of the user (i.e., user agent), and geographic location.

8. International Inquiries: Name and address in Customer Registration account profile used to match with Sender name and address or Sender's representative authority to file an international inquiry for a lost or damaged package.

RECORD SOURCE CATEGORIES:

Customers, Individual Sender and Sender's representative filing an international inquiry for lost or damaged packages.

ROUTINE USES OF RECORDS MAINTAINED IN THE SYSTEM, INCLUDING CATEGORIES OF USERS AND PURPOSES OF SUCH USES:

Standard routine uses 1. through 7., 10., and 11. apply.

POLICIES AND PRACTICES FOR STORAGE OF RECORDS:

Automated database, computer storage media, and paper.

POLICIES AND PRACTICES FOR RETRIEVAL OF RECORDS:

By customer name, customer ID(s), phone number, mail, email address, IP address, text message address, and any customer information or online user information.

By tracking number for International package shipments for which an individual sender or sender's representative is filing an online International inquiry for loss or damage.

POLICIES AND PRACTICES FOR RETENTION AND DISPOSAL OF RECORDS:

1. ACH records are retained up to 2 years.

2. Records stored in the registration database are retained until the customer cancels the profile record, 3 years after the customer last accesses records, or until the relationship ends.

3. For small business registration, records are retained 5 years after the relationship ends.

4. Online user information may be retained for 6 months. Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

For small business registration, computer storage tapes and disks are maintained in controlled-access areas or under general scrutiny of program personnel. Access is controlled by logon ID and password as authorized by the Marketing organization via secure website. Online data transmissions are protected by encryption.

RECORD ACCESS PROCEDURES:

Requests for access must be made in accordance with the Notification Procedure above and USPS Privacy Act regulations regarding access to records and verification of identity under 39 CFR 266.5.

CONTESTING RECORD PROCEDURES:

See Notification Procedures and Record Access Procedures.

NOTIFICATION PROCEDURES:

Customers wanting to know if information about them is maintained in this system of records must address inquiries in writing to the system manager. Inquiries must contain name, address, and other identifying information.

EXEMPTIONS PROMULGATED FOR THE SYSTEM:

None.

HISTORY:

December 27, 2018, 83 FR 66768; August 25, 2016, 81 FR 58542; June 30, 2016, 81 FR 42760; June 20, 2014, 79 FR 35389; January 23, 2014, 79 FR 3881; July 11, 2012, 77 FR 40921; October 24, 2011, 76 FR 65756; May 08, 2008, 73 FR 26155; April 29, 2005, 70 FR 22516.

Sarah Sullivan,
Attorney, Ethics and Legal Compliance.

[FR Doc. 2023-04339 Filed 3-7-23; 8:45 am]

BILLING CODE 7710-12-P